COMMITTEE FOR PURCHASE FROM PEOPLE WHO ARE BLIND OR SEVERELY DISABLED

Procurement List; Proposed Additions and Deletions

ACTION: Proposed additions to and deletions from the Procurement List.

SUMMARY: The Committee is proposing to add to the Procurement List services to be furnished by nonprofit agencies employing persons who are blind or have other severe disabilities, and to delete a product and a service previously furnished by such agencies.

Comments Must Be Received On or Before: October 14, 2007.

ADDRESSES: Committee for Purchase From People Who Are Blind or Severely Disabled, Jefferson Plaza 2, Suite 10800, 1421 Jefferson Davis Highway, Arlington, Virginia 22202-3259.

For Further Information or To Submit Comments, Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

Services

Service Type/Location: Custodial Services, U.S. Coast Guard Office, 110 Mount Elliot Street, Detroit, MI.

NPA: New Horizons Rehabilitation Services, Inc., Auburn Hills, MI.

Contracting Activity: U.S. Coast Guard, Cleveland, OH.

Service Type/Location: Mailroom Operations, Hubert H. Humphrey Building (200 Independence Avenue, SW.), Mary E. Switzer Bldg (330 C Street, SW.), Wilbur J. Cohen Bldg (330 Independence Avenue, SW.), Washington, DC.

NPA: Didlake, Inc., Manassas, VA.

Contracting Activity: Department of Health and Human Services—Program Support Center, Rockville, MD.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

Comments on this certification are invited. Commenters should identify the statement(s) underlying the certification on which they are providing additional information.

End of Certification

The following product and service are proposed for deletion from the Procurement List:

Product

Marker, Lumocolor

NSN: 7520-01-507-6969—Markers, Lumocolor, Permanent.

NPA: Winston-Salem Industries for the Blind, Winston-Salem, NC.

Contracting Activity: General Services Administration, Office Supplies & Paper Products, Acquisition Ctr., New York, NY.

Service

Service Type/Location: Janitorial/Custodial, 3273rd U.S. Army Reserve Hospital, 1003 Grove Road, Suites B & C, Greenville, SC.

NPA: Greenville County Disabilities and Special Needs Board, Greenville, SC.

Contracting Activity: Department of the Army, Army Reserve Contracting Center, Birmingham, AL.

Kimberly M. Zeich,
Director, Program Operations.

[FR Doc. E7-18175 Filed 9-13-07; 8:45 am]

BILLING CODE 6353-01-P